GENERAL SERVICES ADMINISTRATION

[GSAR Case 2020-G525; Docket No. 2021-0012; Sequence No. 1]

RIN 3090-AK26

General Services Administration Acquisition Regulation; Personal Identity Verification Requirements Clarification

AGENCY: Office of Acquisition Policy, General Services Administration (GSA).

ACTION: Direct final rule.

SUMMARY: The General Services Administration (GSA) is amending the General Services Administration Acquisition Regulation (GSAR) to clarify the requirements for Personal Identity Verification (PIV). This direct final rule revises a GSAR clause to provide a more specific reference to the location of the GSA credentialing handbook. GSA is also moving language addressing internal operating procedures around option exercise from the GSAR to the non-regulatory General Services Administration Acquisition Manual (GSAM).

DATES: This direct final rule is effective on July 26, 2021 without further notice unless adverse comments are received. Interested parties should submit written comments to the Regulatory Secretariat as noted below on or before June 28, 2021 to be considered in the formation of the final rule. If GSA receives adverse comments, we will publish a timely withdrawal in the Federal Register informing the public that the rule will not take effect.

ADDRESSES: Submit comments in response to GSAR Case 2020-G525 to: Regulations.gov: https://www.regulations.gov. Submit comments via the Federal eRulemaking portal by searching for “GSAR Case 2020-G525”. Select the link “Comment Now” that corresponds with GSAR Case 2020-G525. Follow the instructions provided at the “Comment Now” screen. Please include your name, company name (if any), and “GSAR Case 2020-G525” on your attached document. If your comment cannot be submitted using https://www.regulations.gov, call or email the points of contact in the FOR FURTHER INFORMATION CONTACT section of this document for alternate instructions.

Instructions: Please submit comments only and cite GSAR Case 2020-G525, in all correspondence related to this case. Comments received generally will be posted without change to https://www.regulations.gov, including any personal and/or business confidential information provided. To confirm receipt of your comment(s), please check https://www.regulations.gov, approximately two to three days after submission to verify posting.

FOR FURTHER INFORMATION CONTACT: Ms. Vernita Misidor, Procurement Analyst, at 202-357-9681 or email at gsarpolicy@gsa.gov, for clarification of content. For information pertaining to status or publication schedules, contact the Regulatory Secretariat at 202-501-4755. Please cite GSAR Case 2020-G525.

SUPPLEMENTARY INFORMATION:

I. Background

Following internal procurement management reviews, GSA identified the need to improve certain credentialing administration processes for contractors. GSA is amending the GSAR to clarify the personal identity verification requirements in GSAR Clause 552.204-9. The clause currently references a very broad credentialing website, which does not clearly identify the requirements for contractors to follow.

II. Authority for This Rulemaking

Title 40 of the United States Code (U.S.C.) Section 121 authorizes GSA to issue regulations, including the GSAR, to control the relationship between GSA and contractors.

III. Discussion of the Rule

GSA is amending the GSAR to specifically reference the Office of Mission Assurance CIO P 2181.1 GSA HSPD-12 Personal Identity Verification and Credentialing Handbook rather than just the general website for credentialing. The change to reference the Handbook will allow for contractor personnel to easily find the information needed related to PIV cards and will eliminate issues that could arise in the event that the website link becomes broken. GSA is also moving text dealing with the exercise of options from the GSAR to the non-regulatory GSAM. This move is being made because the language only addresses responsibilities of Contracting Officers in preparing documentation. As such, it is not regulatory material.

IV. Executive Order 12866 and 13563

Executive Orders (E.O.s) 12866 and 13563 direct agencies to assess all costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. This rule has been reviewed and determined by OMB not to be a significant regulatory action and, therefore, was not subject to review under section 6(b) of E.O. 12866, Regulatory Planning and Review, dated September 30, 1993.

V. Congressional Review Act

The Congressional Review Act, 5 U.S.C. 801 et seq., as amended by the Small Business Regulatory Enforcement Fairness Act of 1996, generally provides that before a “major rule” may take effect, the agency promulgating the rule must submit a rule report, which includes a copy of the rule, to each House of the Congress and to the Comptroller General of the United States. A major rule cannot take effect until 60 days after it is published in the Federal Register. This rule has been reviewed and determined by OMB not to be a “major rule” under 5 U.S.C. 804(2).

VI. Regulatory Flexibility Act

GSA does not expect this direct final rule to have a significant economic impact on a substantial number of small entities within the meaning of the Regulatory Flexibility Act, 5 U.S.C. 601, et seq.

VII. Paperwork Reduction Act

The direct final rule does not contain any information collection requirements that require the approval of the Office of Management and Budget under the Paperwork Reduction Act (44 U.S.C. chapter 35).

List of Subjects in 48 CFR Parts 517 and 552

Government procurement.

Jeffrey A. Koses,
Senior Procurement Executive, Office of Acquisition Policy, Office of Governmentwide Policy, General Services Administration.

Therefore, GSA amends 48 CFR parts 517 and 552 as set forth below:

1. The authority citation for 48 CFR parts 517 and 552 continues to read as follows:

Authority: 40 U.S.C. 121(c).

PART 517—SPECIAL CONTRACTING METHODS

2. Revise section 517.207 to read as follows:

517.207 Exercise of options.

In addition to the requirements of FAR 17.207, the contracting officer must also:

(a) Document the contract file with the rationale for an extended contractual relationship if the contractor's performance rating under the contract is less than satisfactory.

(b) Determine that the option price is fair and reasonable.

(c) The consideration of other factors as prescribed by FAR 17.207(c)(3) should also include consideration of any tiered solutions (see subpart 507.71) or mandated solutions that were otherwise not available at the time of award.

(d) Conduct a Personal Identity Verification card review to determine the need for continued access, see 504.1370(c). This function may be delegated to the COR.

PART 552—SOLICITATION PROVISIONS AND CONTRACT CLAUSES

3. Amend section 552.204-9 by revising the date of the clause and paragraph (a) to read as follows:

552.204-9 Personal Identity Verification Requirements.

* * * * *

Personal Identity Verification Requirements (Jun, 2021)

(a) The contractor shall comply with GSA personal identity verification requirements, identified in the CIO P 2181.1 GSA HSPD-12 Personal Identity Verification and Credentialing Handbook, if contractor employees require access to GSA controlled facilities or information systems to perform contract requirements. The contractor can find the CIO policy and additional information at http://www.gsa.gov/hspd12.

* * * * *

[FR Doc. 2021-11109 Filed 5-26-21; 8:45 am]

BILLING CODE 6820-61-P